FEDERAL COMMUNICATIONS COMMISSION

Public Information Collections Approved by Office of Management and Budget

June 5, 2002.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Marie Moyd, Federal Communications Commission, (202) 418-2111.

Federal Communications Commission

OMB Control No.: 3060-0989.

Expiration Date: 11/30/2002.

Title: Procedures for Applicants Requiring Section 214 Authorization for Domestic Interstate Transmission Lines Acquired Through Corporate Control, 47 CFR Sections 63.01, 63.03 and 63.04.

Form No.: N/A.

Respondents: Business or other for-profit.

Estimated Annual Burden: 35 respondents; 47.29 hours per response (avg.).; 1655 total annual burden hours.

Estimated Annual Reporting and Recordkeeping Cost Burden: $20,000.

Frequency of Response: On occasion.

Description: In a Report and Order issued in CC Docket No. 01-150, released March 21, 2002, the Commission provides presumptive streamlining categories, allows for joint applications for international and domestic transfers of control, clarifies confusion about content of applications, provides timelines for streamlined transaction review, provides a pro forma transaction process, allows asset acquisitions to be treated as transfers of control and deletes obsolete sections of its rules. The Report and Order sets forth the procedures for common carriers requiring authorization under section 214 of the Communications Act of 1934, as amended to acquire domestic interstate transmission lines through a transfer of control. Under section 214 of the Act, carriers must obtain the Commission approval before constructing, acquiring or operating an interstate transmission lines. Acquisitions involving interstate common carriers therefore require affirmative action by the Commission before the acquisition can occur. Pursuant to 47 CFR sections 63.03 and 63.04, domestic section 214 applications involving domestic transfers of control, at a minimum should specify: (1) The name, address and telephone number of each applicant; (2) the government, state, or territory under the laws of which each corporate or partnership applicant is organized; (3) the name, title, post office address, and telephone number of the officer or contact point, such as legal counsel, to whom correspondence concerning the application is to be addressed; (4) the name, address, citizenship and principal business of any person or entity that directly or indirectly owns at least ten percent of the equity of the applicant, and the percentage of equity owned by each of those entities (to the nearest one percent); (5) certification pursuant to 47 CFR sections 1.2001 through 1.2003 that no party to the application is subject to a denial of Federal benefits pursuant to section 5301 of the Anti-Drug Abuse Act of 1988; (6) a description of the transaction; (7) a description of the geographic areas in which the transferor and transferee (and their affiliates) offer domestic telecommunications services, and what services are provided in each area; (8) a statement as to how the application fits into one or more of the presumptive streamlined categories in section 63.03 or why it is otherwise appropriate for streamlined treatment; (9) identification of all other Commission applications related to the same transaction; (10) a statement of whether the applicants are requesting special consideration because either party to the transaction is facing imminent business failure; (11) identification of any separately filed waiver requests being sought in conjunction with the transaction; and (12) a statement showing how grant of the application will serve the public interest, convenience and necessity, including any additional information that may be necessary to show the effect of the proposed transaction on competition in domestic markets. Where an applicant wishes to file a joint international section 214 transfer of control application and domestic section 214 transfer of control application, the applicant must submit information that satisfies the requirements of 47 CFR 63.18. In the attachment to the international application, the applicant must submit the information described in 47 CFR 63.04(a)(6)-(a)(12). See 47 CFR 63.03 and 63.04. No. of respondents: 25; hours per response: 65 hours; total annual burden: 1625 hours). Pursuant to 47 CFR 63.03(d), applicants are not required to file post-consummation notices of pro forma transactions, except that a post transaction notice must be filed with the Commission within 30 days of a pro forma transfer to a trustee or a debtor-in-possession. The notification can be in the form of a letter (in duplicate to the Secretary). The letter or other form of notification must also contain the information listed in sections (a)(1) through (a)(4) in section 63.04. A single letter may be filed for more than one such transfer of control. See 47 CFR 63.03 and 63.04. (No. of respondents: 10; hours per response: 3 hours; total annual burden: 30 hours). Information will be used to ensure that applicants comply with the requirements of 47 USC section 214. Obligation to respond: Mandatory.

Public reporting burdens for the collections of information are as noted above. Send comments regarding the burden estimates or any other aspect of the collections of information, including suggestions for reducing the burden to Performance Evaluation and Records Management, Washington, DC 20554.

Federal Communications Commission.
Marlene H. Dortch,
Secretary.

[FR Doc. 02-14638 Filed 6-10-02; 8:45 am]

BILLING CODE 6712-01-P